COMMODITY FUTURES TRADING COMMISSION

RIN 3038-ZA05

Chicago Mercantile Exchange: Proposed Amendments to the Lean Hogs Futures and Option Contracts Increasing the Contracts' Speculative Position Limits

AGENCY: Commodity Futures Trading Commission.

ACTION: Notice of availability of proposed amendments to contract terms and conditions.

SUMMARY: The Chicago Mercantile Exchange (CME or Exchange) has proposed amendments to the Exchange's lean hogs cattle futures and option contracts. The proposed amendments would increase to 2,400 contracts from 2,000 contracts the speculative position limit applicable to individual non-spot contract months. The proposed amendments also would increase to 950 contracts from 650 contracts the speculative position limit that is applicable to positions held on and after the close of business of the fifth business day of the expiring contract month. The proposed amendments were submitted under the Commission's 45-day Fast Track procedures which provides that, absent any contrary action by the Commission, the proposed amendments may be deemed approved on February 24, 2000—45 days after the Commission's receipt of the proposals. The Acting Director of the Division of Economic Analysis (Division) of the Commission, acting pursuant to the authority delegated by Commission Regulation 140.96, has determined that publication of the proposed amendments is in the public interest and will assist the Commission in considering the views of interested persons, and is consistent with the purposes of the Commodity Exchange Act.

DATES: Comments must be received on or before February 8, 2000.

ADDRESSES: Interested persons should submit their views and comments to Jean A. Webb, Secretary, Commodity Futures Trading Commission, Three Lafayette Centre, 21st Street NW, Washington, DC 20581. In addition, comments may be sent by facsimile transmission to facsimile number (202) 418-5521, or by electronic mail to secretary@cftc.gov. Reference should be made to the proposed amendments to the CME lean hogs futures and option contracts.

FOR FURTHER INFORMATION CONTACT: Please contact John Bird of the Division of Economic Analysis, Commodity Futures Trading Commission, Three Lafayette Centre, 21st Street NW, Washington, DC 20581, telephone (202) 418-5274. Facsimile number: (202) 418-5527. Electronic mail: jbird @cftc.gov

SUPPLEMENTARY INFORMATION: The lean hogs futures contract is cash settled based on cash prices reported by the U.S. Department of Agriculture during the last two trading days of expiring contract month. Contract months for the lean hog futures option contract that correspond to contract months for the underlying lean hogs futures contract expire simultaneously with such futures contract months. Currently, traders' combined positions in the futures and option contracts are subject to speculative position limits of 2000 contracts for positions held in individual non-spot contract months and 650 contracts for positions held in the expiring contract month from the close of business on the fifth business day of that month through the last trading day of the expiring contract month (the tenth business day of the month).

The proposed amendments would increase the speculative position limit applicable to individual non-spot contract months to 2,400 contracts from 2,000 contracts. The proposed amendments also would increase to 950 contracts from 650 contracts the speculative limit applicable from the close of business on the fifth business day of the expiring contract month through the last trading day for that month.

The CME intends to make the proposed amendments effective upon Commission approval for all existing and newly listed contract months.

The Commission is requesting comments on the proposed amendments.

Copies of the proposed amendments will be available for inspection at the Office of the Secretariat, Commodity Futures Trading Commission, Three Lafayette Centre, 21st Street NW., Washington, DC 20581. Copies of the proposed amendments can be obtained through the Office of the Secretariat by mail at the above address, by phone at (202) 418-5100, or via the Internet at secretary@cftc.gov.

Other materials submitted by the Exchange in support of the proposal may be available upon request pursuant to the Freedom of Information Act (5 U.S.C. 552) and the Commission's regulations thereunder (17 CFR Part 146 (1987)), except to the extent they are entitled to confidential treatment as set forth in 17 CFR 145.5 and 145.9. Requests for copies of such materials should be made to the FOI, Privacy and Sunshine Act Compliance Staff of the Office of Secretariat at the Commission's headquarters in accordance with 17 CFR 145.7 and 145.8.

Any person interested in submitting written data, views, or arguments on the proposed amendments, or with respect to other materials submitted by the Exchange, should send such comments to Jean A. Webb, Secretary, Commodity Futures Trading Commission, Three Lafayette Centre, 21st Street NW., Washington, DC 20581 by the specified date.

Issued in Washington, DC, on January 14, 2000.
Richard Shilts,
Acting Director.

[FR Doc. 00-1566 Filed 1-21-00; 8:45 am]

BILLING CODE 6351-01-M